DEPARTMENT OF LABOR

Employment and Training Administration

[TA-W-54,694]

Hewlett Packard, HP Services Americas IT Division, Cupertino, CA; Notice of Termination of Investigation

Pursuant to section 221 of the Trade Act of 1974, as amended, an investigation was initiated on April 8, 2004, in response to a petition filed by the State of California on behalf of workers at Hewlett Packard, HP Services Americas IT Division, Cupertino, California.

The investigation found that the petitioning worker group's division does not exist at the subject facility. Consequently, the investigation has been terminated.

Signed in Washington, DC this 2nd day of June, 2004.
Linda G. Poole,
Certifying Officer, Division of Trade Adjustment Assistance.

[FR Doc. 04-13375 Filed 6-14-04; 8:45 am]

BILLING CODE 4510-30-P